DEPARTMENT OF AGRICULTURE

Forest Service

Southwest Oregon Province Interagency Executive Committee Advisory Committee

AGENCY: Forest Service, USDA.

ACTION: Notice of meeting.

SUMMARY: The Southwest Oregon Province Interagency Executive Committee (PIEC) Advisory Committee will meet on February 6, 2002 in Brookings, Oregon at the Best Western Brookings Inn at 1143 Chetco Ave. The meeting will begin at 9 a.m. and continue until 5 p.m. Agenda items to be covered include: (1) An update from the Regional Ecosystem Office; (2) public comment; (3) a discussion of forest plan monitoring; and (4) current issues as perceived by Advisory Committee members.

FOR FURTHER INFORMATION CONTACT: Direct questions regarding this meeting to Roger Evenson, Province Advisory Committee Coordinator, USDA, Forest Service, Umpqua National Forest, 2900 NW Stewart Parkway, Roseburg, Oregon 97470, phone (541) 957-3344.

Dated: January 16, 2002.
Michael D. Hupp,
Acting Designated Federal Official.

[FR Doc. 02-1595 Filed 1-22-02; 8:45 am]

BILLING CODE 3410-11-M